DEPARTMENT OF THE INTERIOR

Bureau of Land Management

[A2407-014-004-065516; #O2412-014-004-047181.1; LLID935000]

Filing of Surveys; Idaho

AGENCY: Bureau of Land Management, Interior.

ACTION: Notice of official filing.

SUMMARY: The plats and/or field notes of the following described surveys are scheduled to be officially filed in the Bureau of Land Management, Idaho State Office, Boise, Idaho. The surveys announced in this notice were conducted for the management of lands administered by the agencies indicated.

DATES: Protests must be received by the Bureau of Land Management (BLM) no later than the close of business hours on October 6, 2025.

ADDRESSES: Protests must be delivered to and, upon required payment, a copy of the survey record may be obtained from the Public Room at the Bureau of Land Management, Idaho State Office, 1387 S Vinnell Way, Boise, ID 83709-1657.

FOR FURTHER INFORMATION CONTACT: Michael L. Hart, Idaho State Office Branch of Cadastral Survey, Bureau of Land Management, 1387 S. Vinnell Way, Boise, ID 83709-1657; (208) 373-3981; email: mlhart@blm.gov. Individuals in the United States who are deaf, deafblind, hard of hearing, or have a speech disability may dial 7-1-1 (TTY, TDD, or TeleBraille) to access telecommunications relay services. Individuals outside the United States should use the relay services offered within their country to make international calls to the point-of-contact in the United States.

SUPPLEMENTARY INFORMATION: The plats of survey described below represent official surveys executed at the request of the BLM and other agencies to facilitate the management of these lands. These official surveys include resurveys of boundaries and subdivisional lines, subdivisions of sections, and specific metes-and-bounds surveys, all within the Boise Meridian, Idaho. These surveys are necessary to define land boundaries for effective land management.

Boise Meridian, Idaho

The dependent resurvey of portions of the west boundary and subdivisional lines, and the subdivision of section 6, Township 6 South, Range 16 East, accepted April 11, 2025, under Group No. 1481.

The dependent resurvey of a portion of the subdivisional lines, and the subdivision of section 21, Township 8 South, Range 18 East, accepted April 21, 2025, under Group No. 1535.

The dependent resurvey of a portion of the subdivisional lines and a portion of the subdivision of section lines in sections 12, 13 and 23; the further subdivision of sections 12 and 23; and certain metes-and-bounds surveys in sections 12, 13 and 23, Township 4 South, Range 43 East, accepted April 21, 2025, under Group No. 1485.

The dependent resurvey of portions of the west boundary and subdivisional lines, and the subdivision of sections 7, 18, 19, and 30, Township 4 South, Range 19 East, accepted April 29, 2025, under Group No. 1502.

The dependent resurvey of a portion of the north and east boundaries, and a portion of the subdivisional lines, and the subdivision of sections 1, 2, and 3, Township 22 North, Range 1 East, accepted May 8, 2025, under Group No. 1552.

The dependent resurvey of portions of the east boundary and subdivisional lines, and the subdivision of section 12, Township 16 South, Range 15 East, accepted May 6, 2025, under Group No. 1530.

The dependent resurvey of portions of the Tenth Standard Parallel North (south boundary) and subdivisional lines, and the subdivision of sections 27 and 34, the survey of the 2016 meanders of the summer pool level of Coeur d'Alene Lake in sections 26 and 35, and certain metes-and-bounds surveys in sections 26 and 35, Township 49 North, Range 4 West, accepted May 19, 2025, under Group No. 1462.

The dependent resurvey of a portion of the East Boundary of the Nez Perce Indian Reservation and a portion of the subdivisional lines, and the subdivision of section 23, Township 33 North, Range 4 East, accepted June 9, 2025, under Group No. 1518.

The dependent resurvey of a portion of Mineral Survey No. 2B (lot 38B), and the survey of Tract 37, approximately located in unsurveyed section 30, Township 24 North, Range 19 East, accepted June 17, 2025, under Group No. 1611.

The dependent resurvey of a portion of the north boundary and subdivisional lines, and the subdivision of sections 3, 4, 9, and 10, Township 9 South, Range 29 East, accepted July 7, 2025, under Group No. 1519.

The metes-and-bounds survey of Tract 45 and the survey of the 2023 meanders of the summer pool level of the left bank of the Spokane River in sections 11 and 14, Township 50 North, Range 4 West, Boise Meridian, Idaho, accepted July 28, 2025, under Group No. 1581.

If you wish to protest one or more of the surveys identified above, you must file a written notice of protest with the Idaho State Director, ID935, Bureau of land Management, by the date listed in the DATES section of this notice at the address listed in the ADDRESSES section of this notice. The protest must identify the survey(s) that the person or party wishes to protest and contain all reasons and evidence in support of the protest. A protest is considered filed on the date it is received by the Idaho State Director, Bureau of Land Management, during regular business hours; if received after regular business hours, a protest will be considered filed the next business day.

Before including your address, phone number, email address, or other personally identifiable information in a protest, you should be aware that the documents you submit, including your personally identifiable information, may be made publicly available in their entirety at any time. While you may ask us to withhold your personally identifiable information from public review, we cannot guarantee that we will be able to do so.

(Authority: 43 U.S.C. chapter 3)

Michael L. Hart,
Chief Cadastral Surveyor for BLM Idaho.

[FR Doc. 2025-16985 Filed 9-4-25; 8:45 am]

BILLING CODE 4331-19-P